DEPARTMENT OF EDUCATION

Office of Innovation and Improvement, Overview Information, Advanced Placement (AP) Test Fee Program, Notice Inviting Applications for New Awards for Fiscal Year (FY) 2005

Catalog of Federal Domestic Assistance (CFDA) Number: 84.330B.

DATES: Applications Available: November 9, 2004.

Deadline for Notice of Intent to Apply: December 1, 2004.

Deadline for Transmittal of Applications: December 13, 2004.

Deadline for Intergovernmental Review: February 11, 2005.

Eligible Applicants: State educational agencies (SEAs) in any State, including the District of Columbia, the Commonwealth of Puerto Rico, the United States Virgin Islands, Guam, American Samoa, the Commonwealth of the Northern Mariana Islands, and the freely associated states of the Republic of the Marshall Islands, the Federated States of Micronesia, and the Republic of Palau.

Note: For purposes of this program, the Bureau of Indian Affairs is treated as an SEA.

Estimated Available Funds: The Administration has requested $51,534,000 for the Advanced Placement programs for FY 2005. The actual level of funding depends on final congressional action. The Department is inviting applications for this competition now so that it may be prepared to make awards following final congressional action on the Department's appropriation bill. Based on the Administration's request, we estimate $6 million will be available for new awards under this competition but, in accordance with statutory requirements, will make more funds available from the Advanced Placement Incentive program (CFDA number 84.330C) if necessary.

Estimated Range of Awards: $5,000-$500,000.

Estimated Average Size of Awards: $120,000.

Estimated Number of Awards: 50.

Note: The Department is not bound by any estimates in this notice.

Full Text of Announcement

I. Funding Opportunity Description

Purpose of Program: The AP Test Fee program provides grants to States to enable them to pay advanced placement test fees on behalf of eligible low-income students who (1) are enrolled in an advanced placement course; and (2) plan to take an advanced placement exam. The program is designed to increase the number of low-income students who take advanced placement tests and receive scores for which college academic credit is awarded. Participation in this program helps low-income students achieve to higher standards in English, mathematics, science, and other core subjects. The program also seeks to increase the number of low-income students who achieve baccalaureate and advanced degrees.

Allowable Activities: States receiving grants under this program may use the grant funds to pay part or all of the cost of advanced placement test fees for low-income individuals who (1) are enrolled in an advanced placement class; and (2) plan to take an advanced placement test.

Program Authority: 20 U.S.C. 6531-6537.

Applicable Regulations: The Education Department General Administrative Regulations (EDGAR) in 34 CFR parts 75, 77, 79, 80, 81, 82, 84, 85, 97, 98, and 99.

II. Award Information

Type of Award: Discretionary grants.

Estimated Available Funds: The Administration has requested $51,534,000 for the Advanced Placement programs for FY 2005. The actual level of funding depends on final congressional action. The Department is inviting applications for this competition now so that it may be prepared to make awards following final congressional action on the Department's appropriation bill. Based on the Administration's request, we estimate $6 million will be available for new awards under this competition but, in accordance with statutory requirements, will make more funds available from the Advanced Placement Incentive program (CFDA number 84.330C) if necessary.

Estimated Range of Awards: $5,000-$500,000.

Estimated Average Size of Awards: $120,000.

Estimated Number of Awards: 50.

Note: The Department is not bound by any estimates in this notice.

Project Period: Up to 36 months.

III. Eligibility Information

1. Eligible Applicants: SEAs in any State, including the District of Columbia, the Commonwealth of Puerto Rico, the United States Virgin Islands, Guam, American Samoa, the Commonwealth of the Northern Mariana Islands, and the freely associated states of the Republic of the Marshall Islands, the Federated States of Micronesia, and the Republic of Palau.

Note: For purposes of this program, the Bureau of Indian Affairs is treated as an SEA.

2. Cost Sharing or Matching: This program does not involve cost sharing or matching but does involve supplement-not-supplant funding provisions.

Supplement not Supplant: Funds provided under this program must be used only to supplement and not supplant other non-Federal funds that are available to assist low-income individuals in paying advanced placement test fees (20 U.S.C. 6536).

3. Other: (a) Definitions. The following definitions are taken from the Advanced Placement Programs authorizing statute, in Title I, Part G of the Elementary and Secondary Education Act of 1965, as amended (ESEA). They are repeated in this application notice for the convenience of the applicant.

(i) The term advanced placement test means an advanced placement test administered by the College Board or approved by the Secretary of Education.

Note: The Department has approved advanced placement tests administered by the International Baccalaureate Organization. As part of the grant application process, applicants may request approval of tests from other educational entities that provide comparable programs of rigorous academic courses and testing through which students may earn college credit.

(ii) The term low-income individual means an individual who is determined by an SEA or local educational agency to be a child, ages 5 through 19, from a low-income family on the basis of data used by the Secretary to determine allocations under section 1124 of Title I of the ESEA, data on children eligible for free or reduced-price lunches under the National School Lunch Act, data on children in families receiving assistance under part A of title IV of the Social Security Act, or data on children eligible to receive medical assistance under the Medicaid program under title XIX of the Social Security Act, or through an alternate method that combines or extrapolates from those data.

(b) Information Dissemination. In accordance with section 1704(c) of the ESEA (20 U.S.C. 1704(c)), an SEA awarded a grant under the AP Test Fee Program must disseminate information regarding the availability of advanced placement test fee payments under this program to eligible individuals through secondary school teachers and guidance counselors.

IV. Application and Submission Information

1. Address to Request Application Package: You may obtain an application package via Internet or from the ED Publication Center (ED Pubs). To obtain a copy via Internet use the following address: http://www.ed.gov/fund/grant/apply/grantapps/index.

To obtain a copy from ED Pubs, write or call the following: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.330B.

Individuals with disabilities may obtain a copy of the application package in an alternative format (e.g., Braille, large print, audiotape, or computer diskette) by contacting the program contact person listed elsewhere in this notice under FOR FURTHER INFORMATION CONTACT (see VII. Agency Contact).

2. Content and Form of Application Submission: Requirements concerning the content of an application, together with the forms you must submit, are in the application package for this program.

Notice of Intent to Apply: Applicants that plan to apply for funding under this program are encouraged to e-mail the AP Test Fee Program manager of an intent to apply at madeline.baggett@ed.gov no later than December 1, 2004. Applicants that fail to supply this e-mail notification may still apply for funding under this competition.

Page Limit for Program Narrative: The program narrative is where you, the applicant, address the Requirements for Approval of Application. You must limit the program narrative to the equivalent of no more than 30 pages, using the following standards:

• A “page” is 8.5″ x 11″, on one side only, with 1″ margins at the top, bottom, and both sides.

• Double space (no more than three lines per vertical inch) all text in the program narrative, including titles, headings, footnotes, quotations, references, and captions, as well as all text in charts, tables, figures, and graphs.

• Use a font that is either 12-point or larger or no smaller than 10 pitch (characters per inch).

The page limit applies only to the narrative section of the application. Instructions for completing the program narrative section are in the application package (see Section C: Application Forms and Instructions).

Our reviewers will not read any pages of your program narrative that—

• Exceed the page limit if you apply these standards; or

• Exceed the equivalent of the page limit if you apply other standards.

3. Submission Dates and Times: Applications Available: November 9, 2004.

Deadline for Notice of Intent to Apply: December 1, 2004.

Deadline for Transmittal of Applications: December 13, 2004.

Applications for grants under the AP Test Fee program must be submitted electronically using the Electronic Grant Application System (e-Application) available through the Department's e-Grants system. For information (including dates and times) about how to submit your application electronically or to request a waiver of the electronic submission requirement, please refer to Section IV. 6. Other Submission Requirements in this notice.

We do not consider an application that does not comply with the application requirements.

Deadline for Intergovernmental Review: February 11, 2005.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Other Submission Requirements: Applications for grants under this program must be submitted electronically, unless you request a waiver of this requirement in accordance with the instructions in this section.

a. Electronic Submission of Applications.

Applications for grants under the AP Test Fee Program—CFDA Number 84.330B must be submitted electronically using e-Application available through the Department's e-Grants system, accessible through the e-Grants portal page at: http://e-grants.ed.gov.

If you are unable to submit an application through the e-Grants system, you may submit a written request for a waiver of the electronic submission requirement. In your request, you should explain the reason or reasons that prevent you from using the Internet to submit your application. Address your request to: Madeline Baggett, U.S. Department of Education, 400 Maryland Avenue, SW., room 4W210, Washington, DC 20202-5943. Please submit your request no later than two weeks before the application deadline date. Your paper application must be submitted in accordance with the mail or hand delivery instructions described in this notice.

If, within two weeks of the application deadline date, including the application deadline date itself, you are unable to submit an application electronically, you must submit a paper application in accordance with the mail or hand delivery instructions described in this notice. The paper application must include a written request for a waiver documenting the reasons that prevented you from using the Internet to submit your application electronically.

While completing your electronic application, you will be entering data online that will be saved into a database. You may not e-mail an electronic copy of a grant application to us.

Please note the following:

• You must complete the electronic submission of your grant application by 4:30 p.m., Washington, DC time, on the application deadline date. The e-Application system will not accept an application for the AP Test Fee Program after 4:30 p.m., Washington, DC time, on the application deadline date. Therefore, we strongly recommend that you do not wait until the application deadline date to begin the application process.

• The regular hours of operation of the e-Grants Web site are 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you request a waiver and submit your application in paper format because you were prevented from submitting it electronically as required.

• You must submit all documents electronically, including the Application for Federal Education Assistance (ED 424), Budget Information—Non-Construction Programs (ED 524), and all necessary assurances and certifications.

• Your electronic application must comply with any page limit requirements described in this notice.

• Prior to submitting your electronic application, you may wish to download it and print a copy of it for your records.

• After you electronically submit your application, you will receive an automatic acknowledgement that will include a PR/Award number (an identifying number unique to your application).

• Within three working days after submitting your electronic application, fax a signed copy of the ED 424 to the Application Control Center after following these steps:

1. Print ED 424 from e-Application.

2. The applicant's Authorizing Representative must sign this form.

3. Place the PR/Award number in the upper right hand corner of the hard-copy signature page of the ED 424.

4. Fax the signed ED 424 to the Application Control Center at (202) 245-6272.

• We may request that you provide us original signatures on other forms at a later date.

Application Deadline Date Extension in Case of System Unavailability: If you are prevented from electronically submitting your application on the application deadline date because the e-Application system is unavailable, we will grant you an extension of one business day in order to transmit your application electronically, by mail, or by hand delivery. We will grant this extension if—

1. You are a registered user of e-Application and you have initiated an electronic application for this competition; and

2. (a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgement of any system unavailability, you may contact either (1) the person listed elsewhere in this notice under For Further Information Contact (see VII. Agency Contact) or (2) the e-Grants help desk at 1-888-336-8930. If the system is down and therefore the application deadline is extended, an e-mail is sent to all registered users who have initiated an application.

Extensions referred to in this section apply only to the unavailability of the Department's e-Application system. If the e-Application system is available, and you are unable to submit your application electronically or you do not receive an automatic acknowledgement of your submission, you may submit your application in paper format by mail or hand delivery in accordance with the instructions in this notice. Your paper application must be accompanied by a written request for waiver of the electronic submission requirement documenting the reasons that prevented you from using the Internet to submit your application electronically.

b. Submission of Paper Applications by Mail.

If you submit your application in paper format by mail (through the U.S. Postal Service or a commercial carrier), you must send the original and two copies of your application, on or before the application deadline date, to the Department at the applicable following address:

By mail through the U.S. Postal Service: U.S. Department of Education, Application Control Center, Attention: (CFDA Number 84.330B), 400 Maryland Avenue, SW., Washington, DC 20202-4260; or

By mail through a commercial carrier: U.S. Department of Education, Application Control Center—Stop 4260, Attention: (CFDA Number 84.330B), 7100 Old Landover Road, Landover, MD 20785-1506.

The Application Control Center will mail a Grant Application Receipt Acknowledgment to you. If you do not receive the notification of application receipt within 15 business days from the mailing of your application, you should call the U.S. Department of Education Application Control Center at (202) 245-6288.

You must show proof of mailing consisting of one of the following:

1. A legibly dated U.S. Postal Service postmark;

2. A legible mail receipt with the date of mailing stamped by the U.S. Postal Service;

3. A dated shipping label, invoice, or receipt from a commercial carrier; or

4. Any other proof of mailing acceptable to the U.S. Secretary of Education.

If you mail your application through the U.S. Postal Service, we do not accept either of the following as proof of mailing:

1. A private metered postmark, or

2. A mail receipt that is not dated by the U.S. Postal Service.

If your application is postmarked after the application deadline date, we will not consider your application.

Note: Applicants should note that the U.S. Postal Service does not uniformly provide a dated postmark. Before relying on this method, you should check with your local post office.

c. Submission of Paper Applications by Hand Delivery.

If you have requested a waiver of the electronic submission requirement, you (or a courier service) may deliver your paper application to the Department by hand. You must deliver the original and two copies of your application by hand, on or before the application deadline date, to the Department at the following address: U.S. Department of Education, Application Control Center, Attention: CFDA Number 84.330B, 550 12th Street, SW., Room 7041, Potomac Center Plaza, Washington, DC 20202-4260.

The Application Control Center accepts hand deliveries daily between 8 a.m. and 4:30 p.m., Washington, DC time, except Saturdays, Sundays and Federal holidays. A person delivering an application must show photo identification to enter the building.

Note for Mail or Hand Delivery of Paper Applications: If you mail or hand deliver your application to the Department:

1. You must indicate on the envelope and—if not provided by the Department—in Item 4 of the ED 424 the CFDA number—and suffix letter, if any—of the competition under which you are submitting your application.

2. The Application Control Center will mail a Grant Application Receipt Acknowledgment to you. If you do not receive the notification of application receipt within 15 business days from the application deadline date, you should call the U.S. Department of Education Application Control Center at (202) 245-6288.

V. Application Review Information

1. Review and Selection Process: In accordance with statutory requirements, the Department gives priority to funding applications (from among those received for the two Advanced Placement programs authorized under Title I, Part G of the ESEA) to use grant funds to pay advanced placement test fees on behalf of eligible low-income individuals. The Department intends to fund, at some level, all applications for this competition that meet the minimum Requirements for Approval of Application as described in the application package. However, in determining whether to approve an application for a new award from an applicant with a current grant under the program, the Department will consider the amount of any carryover funds under the existing grant.

2. Award Basis: In determining grant award amounts, the Department will consider, among other things, the amount of any carryover funds the applicant has under an existing grant under the program and the number of children in the State eligible to be counted under section 1124(c) of Title I of the ESEA in relation to the number of such children counted in all the States that apply for funding. Complete budget data must be submitted for each year of funding requested.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Grant Administration. Applicants approved for funding under this competition may be required to attend a one- or two-day Grants Administration meeting in Washington, DC during the first year of the grant. The cost of attending this meeting may be paid from API program grant funds or State or local resources.

4. Reporting: At the end of your project period, you must submit a final performance report, including financial information, as directed by the Secretary. If you receive a multi-year award, you must submit an annual performance report that meets the reporting requirements in section 1704(f)(1) of the ESEA and provides the most current performance and financial expenditure information as specified by the Secretary in 34 CFR 75.118.

5. Performance Measures: The Secretary has developed four performance measures for assessing the effectiveness of the two Advanced Placement programs authorized under Title I, Part G of the ESEA. These measures are:

(a) Number of Advanced Placement (AP) tests taken by low-income students nationally;

(b) Number of International Baccalaureate (IB) tests taken by low-income students nationally;

(c) Percentage of low-income students served by the Department's Advanced Placement programs who receive a passing score on AP tests; and

(d) Percentage of low-income students served by the Department's Advanced Placement programs who receive a passing score on IB tests.

VII. Agency Contact

FOR FURTHER INFORMATION CONTACT: Madeline E. Baggett, U.S. Department of Education, 400 Maryland Avenue, SW., room 4W210, Washington, DC 20202-5943. Telephone: (202) 260-2502 or by e-mail: madeline.baggett@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: November 3, 2004.
Nina Shokraii Rees,
Assistant Deputy Secretary for Innovation and Improvement.

[FR Doc. 04-24895 Filed 11-8-04; 8:45 am]

BILLING CODE 4000-01-U